DEPARTMENT OF ENERGY

Federal Energy Regulatory Commission

[Docket No. IN23-14-000]

Ketchup Caddy, LLC, Philip Mango; Notice of Service of Order To Show Cause

On July 26, 2024, the Commission issued an Order Amending Answer Deadline ¹ directing the Secretary of the Commission (Secretary) to serve on Ketchup Caddy, LLC (Ketchup Caddy) and Philip Mango (Mango) (collectively, Respondents) the Order to Show and Notice of Proposed Penalty previously issued in the above-referenced proceeding.²

¹ Ketchup Caddy, LLC & Philip Mango, 188 FERC ¶ 61,081 (2024).

² Ketchup Caddy, LLC & Philip Mango, 186 FERC ¶ 61,132 (2024) (Order to Show Cause).

Notice is hereby given that on July 26, 2024, the Secretary served the Order to Show Cause on Respondents.

Dated: September 4, 2024.
Debbie-Anne A. Reese,
Acting Secretary.

[FR Doc. 2024-20410 Filed 9-9-24; 8:45 am]

BILLING CODE 6717-01-P